DEPARTMENT OF THE INTERIOR

Fish and Wildlife Service

[Docket No. FWS-HQ-IA-2019-0063; FXIA16710900000-190-FF09A30000]

Emergency Exemption; Issuance of Emergency Permit To Import Endangered Species

AGENCY: Fish and Wildlife Service, Interior.

ACTION: Notice of issuance of permit.

SUMMARY: We, the U.S. Fish and Wildlife Service, have waived the 30-day public notice period and have issued an endangered species permit for activities with four wild-collected eggs from piping plover (Charadrius melodus), an endangered bird species. We issue this permit under the Endangered Species Act.

ADDRESSES: Materials pertaining to the permit application are available by submitting a Freedom of Information Act (FOIA) request to the Service's FOIA office https://www.doi.gov/foia/foia-request-form.

FOR FURTHER INFORMATION CONTACT: Brenda Tapia, by phone at 703-358-2104, via email at DMAFR@fws.gov, or via the Federal Relay Service at 800-877-8339.

SUPPLEMENTARY INFORMATION: We, the U.S. Fish and Wildlife Service (Service), have issued an emergency permit to conduct certain activities with the endangered piping plover (Charadrius melodus) in response to a permit application that we received under the authority of section 10(a)(1)(A) of the Endangered Species Act of 1973 (16 U.S.C. 1531 et seq.)

We issued the requested permit subject to certain conditions set forth in the permit. For the application, we found that (1) the application was filed in good faith, (2) the granted permit would not operate to the disadvantage of the endangered species, and (3) the granted permit would be consistent with the purposes and policy set forth in section 2 of the ESA.

Permit Issued Under Emergency Exemption
Permit No. | Applicant | Permit issuance date
44262D | U.S. Fish and Wildlife Service | June 13, 2019.

The Service's piping plover coordinator requested a permit to import and captive-rear four viable wild-collected piping plover eggs from the Canadian Wildlife Service in Ontario, Canada, due to the eggs' having been washed out by a storm and abandoned by the parents in the wild. The Service determined that an emergency affecting the viability of the piping plover eggs existed, and that no reasonable alternative was available to the applicant.

On June 13, 2019, the Service issued permit no. PRT-44262D to the U.S. Fish and Wildlife Service, East Lansing, Michigan, to import the four viable wild-collected eggs from piping plover for the purpose of enhancement of the survival of the species. The eggs were salvaged so that the Service could hatch them in captivity at a captive-rearing facility in the United States for eventual release of the fledged birds into the wild.

Authorities

We issue this notice under the authority of the Endangered Species Act of 1973, as amended (ESA; 16 U.S.C. 1531 et seq.), and its implementing regulations.

Brenda Tapia,
Program Analyst/Data Administrator, Branch of Permits, Division of Management Authority.

[FR Doc. 2019-16970 Filed 8-7-19; 8:45 am]

BILLING CODE 4333-15-P